DEPARTMENT OF LABOR

Occupational Safety and Health Administration

29 CFR Part 1926

[Docket No. S-030]

RIN No. 1218-AC01

Safety Standards for Cranes and Derricks

AGENCY: Occupational Safety and Health Administration (OSHA), U.S. Department of Labor.

ACTION: Notice of Negotiated Rulemaking Committee meetings.

SUMMARY: The Occupational Safety and Health Administration (OSHA) announces the fifth and sixth meetings of the Crane and Derrick Negotiated Rulemaking Advisory Committee (C-DAC). The Committee will review summary notes of the prior meeting, review draft regulatory text and continue to address substantive issues. The meetings will be open to the public.

DATES: The meetings will be on December 3, 4, 5, 2003, and January 5, 6, 7, 2004. The December meeting will begin each day at 8:30 a.m. The January meeting will begin at 1 p.m. on January 5th and at 8:30 a.m. the last two meeting days. Individuals with disabilities wishing to attend should contact Luz DelaCruz by telephone at 202-693-2020 or by fax at 202-693-1689 to obtain appropriate accommodations no later than Friday, November 21, 2003, for the, December meeting and no later than Monday, December 22, 2003, for the January meeting. Each C-DAC meeting is expected to last two and a half days.

ADDRESSES: The December meeting will be held at the U.S. Department of Labor, 200 Constitution Avenue, NW, Washington, DC 20210 and will be in conference room N-4437 B, C, D. The January meeting will be held at the UBC International Training Center, 6801 Placid Street, Las Vegas, NV 89119.

Written comments to the Committee may be submitted in any of three ways: by mail, by fax, or by email. Please include “Docket No. S-030” on all submissions.

By mail, submit three (3) copies to: OSHA Docket Office, Docket No. S-030, U.S. Department of Labor, 200 Constitution Avenue, NW., Room N-2625, Washington, DC 20210, telephone (202) 693-2350. Note that receipt of comments submitted by mail may be delayed by several weeks.

By fax, written comments that are 10 pages or fewer may be transmitted to the OSHA Docket Office at fax number (202) 693-1648.

Electronically, comments may be submitted through OSHA's Web page at http://ecomments.osha.gov. Please note that you may not attach materials such as studies or journal articles to your electronic comments. If you wish to include such materials, you must submit three copies to the OSHA Docket Office at the address listed above. When submitting such materials to the OSHA Docket Office, clearly identify your electronic comments by name, date, subject, and Docket Number, so that we can attach the materials to your electronic comments.

FOR FURTHER INFORMATION CONTACT: Michael Buchet, Office of Construction Standards and Guidance, Occupational Safety and Health Administration, U.S. Department of Labor, Room N-3468, 200 Constitution Avenue, NW., Washington, DC 20210; Telephone: (202) 693-2345.

SUPPLEMENTARY INFORMATION:

I. Background

On July 16, 2002, OSHA published a notice of intent to establish a negotiated rulemaking committee, requesting comments and nominations for membership (Volume 67 of the Federal Register, page 46612). In subsequent notices the Department of Labor announced the establishment of the Committee (Volume 68 of the Federal Register, page 35172, June 12, 2003), requested comments on a list of proposed members (68 FR 9036, February 27, 2003), published a final membership list (68 FR 39877, July 3, 2003), announced the first meeting, (68 FR 39880, July 3, 2003), which was held July 30-August 1, 2003. The Agency published notices announcing the subsequent meetings.

II. Agenda

The Committee will review draft materials prepared by the Agency on issues discussed at prior meetings and address additional issues. While the pace of the discussions at the C-DAC meetings varies, C-DAC anticipates discussing the following items at the December meeting: wire rope, hoisting personnel, access to work zones, overhead and gantry cranes, and responsibility for site and ground conditions. At the January meeting, C-DAC anticipates discussing crane operations near electric power lines.

III. Anticipated Key Issues for Negotiation

OSHA anticipates that key issues to be addressed at future C-DAC meetings will include:

Being Discussed

1. Scope.

2. Definitions.

3. Assembly & Disassembly (including reeving/rigging).

4. Operation Procedures.

5. Signals.

6. Operator Qualifications, Training & Testing.

7. Inspections.

8. Modifications.

9. Keeping Clear of the Load.

10. Fall Protection.

a. Ladder access and cat walks.

b. Fall arrest.

11. Hoisting Personnel.

12. Machine Guarding.

13. Qualifications of Maintenance & Repair Workers.

14. Work Zone Control.

Additional Subjects (anticipated order):

1. Wire Rope.

2. Responsibility for environmental considerations, site conditions and ground conditions.

3. Safety Devices: fail-safe, warning, secondary brake system, and other safety-related devices/technology.

4. Operating Near Power Lines.

5. Floating Cranes; Cranes on Barges.

6. Overhead & Gantry Cranes.

7. Derricks.

8. Verification criteria for the structural adequacy of crane components and stability testing requirements.

9. Free Fall/Power Down.

10. Critical Lifts and Engineered Lifts.

11. Tower Cranes.

12. Operator Cab Criteria (roll over, visibility, overhead protection).

13. Limited Requirements for cranes with a rated capacity of 2,000 pounds or less.

IV. Public Participation

All interested parties are invited to attend these public meetings at the times and places indicated above. Note, however, that a government issued photo ID card (State or Federal) is required for entry into the Department of Labor building. No advance registration is required. The public must enter the Department of Labor for the December meeting through the 3rd and C Street, NW., entrance. Seating will be available to the public on a first-come, first-served basis. Individuals with disabilities wishing to attend should contact Luz DelaCruz by telephone at 202-693-2020 or by fax at 202-693-1689 to obtain appropriate accommodations no later than Friday, November 21, 2003, for the December meeting and no later than Monday, December 22, 2003, for the January meeting. Each C-DAC meeting is expected to last two and a half days.

In addition, members of the general public may request an opportunity to make oral presentations to the Committee. The Facilitator has the authority to decide to what extent oral presentations by members of the public may be permitted at the meeting. Oral presentations will be limited to statements of fact and views, and shall not include any questioning of the committee members or other participants.

Minutes of the meetings and materials prepared for the Committee will be available for public inspection at the OSHA Docket Office, room N-2625, 200 Constitution Ave., NW., Washington, DC 20210; Telephone (202) 693-2350. Minutes will also be available on the OSHA Docket Web page: http://dockets.osha.gov/

The Facilitator, Susan Podziba, can be reached at Susan Podziba and Associates, 21 Orchard Road, Brookline, MA 02445; telephone (617) 738 5320, fax (617) 738-6911.

Signed at Washington, DC, this 12th day of November, 2003.
John L. Henshaw,
Assistant Secretary of Labor for Occupational Safety and Health.

[FR Doc. 03-28767 Filed 11-17-03; 8:45 am]

BILLING CODE 4510-26-P